DEPARTMENT OF DEFENSE

Department of the Army, Corps of Engineers

Notice of Availability of Draft Environmental Impact Statement for the Proposed Sierra Vista Specific Plan Project, in the City of Roseville, Placer County, CA, Corps Permit Application number SPK-2006-01050

AGENCY: Department of the Army, U.S. Army Corps of Engineers, DOD.

ACTION: Notice of Availability.

SUMMARY: Pursuant to the National Environmental Policy Act (NEPA), the U.S. Army Corps of Engineers (USACE), Sacramento District has prepared a Draft Environmental Impact Statement (DEIS) that analyzes the potential effects of implementing the proposed action and alternatives for development of a large-scale, mixed-use, mixed-density master-planned community on the approximately 1,612-acre Sierra Vista Specific Plan area, located in the City of Roseville, Placer County, California. The DEIS documents the existing condition of environmental resources in and around areas considered for development, and potential impacts on those resources as a result of implementing the alternatives. The alternatives considered in detail are: (a) No Action Alternative (no discharge of dredged and/or fill material into waters of the U.S.); (b) Proposed Action Alternative, the applicant group's preferred alternative; (c) Reduced Footprint/Increased Density Alternative; (d) Reduced Footprint/Same Density Alternative; (e) Focused Avoidance Alternative; and (f) Southwest Site, an off site alternative located in Southwest Placer County.

DATES: All written comments must be postmarked on or before 20 August 2012.

ADDRESSES: Comments may be submitted in writing to: James T. Robb, U.S. Army Corps of Engineers, Sacramento District, Regulatory Division; 1325 J Street, Room 1350, Sacramento, California 95814-2922, or via email to: DLL-CESPK-RD-EIS-Comments@usace.army.mil.

FOR FURTHER INFORMATION CONTACT: James T. Robb, (916) 557-7610.

SUPPLEMENTARY INFORMATION: This Draft Environmental Impact Statement (Draft EIS) analyzes the potential effects of authorizing, via Department of the Army (DA) permits, the discharge of dredged or fill material into Waters of the United States, for the development of the Sierra Vista Specific Plan (Proposed Action). The Proposed Action consists of nine developments and their associated infrastructure integrated under one specific plan. The Proposed Action includes the following uses: 820 acres (332 hectares) of residential uses totaling 6,650 single- and multi-family residential units at buildout, 216 acres (87 hectares) of commercial and office uses, 61 acres (25 hectares) of public/quasi-public uses such as schools, 91 acres (37 hectares) of parks, 234 acres (95 hectares) of open space, and 177 acres (72 hectares) of roadways and paseos. Development under the Proposed Action, if authorized, would fill approximately 24.81 acres (10.04 hectares) of wetlands and other jurisdictional waters of the United States as defined by the CWA. This discharge of fill material requires approval from the U.S. Army Corps of Engineers (USACE) pursuant to Section 404 of the federal Clean Water Act, under which the USACE issues or denies DA permits for activities involving a discharge of dredged or fill materials into the waters of the United States, including wetlands. The USACE intends to adopt this document to satisfy the requirements of the National Environmental Policy Act (NEPA).

USACE invites full public participation to promote open communication and better decision-making. All persons and organizations that have an interest in this action are urged to participate in the NEPA process.

An electronic version of the DEIS may be viewed at the USACE, Sacramento District Web site: http://www.spk.usace.army.mil/Missions/Regulatory/Overview/EnvironmentalImpactStatements.aspx. In addition, a hardcopy of the DEIS may also be reviewed at the following locations:

(1) City of Roseville Permits Center, 311 Vernon Street, Roseville, California 95678.

(2) City of Roseville Public Library, 225 Taylor Street, Roseville, California 95678.

June 25, 2012.
William J. Leady,
Colonel, U.S. Army, District Engineer.

[FR Doc. 2012-16545 Filed 7-5-12; 8:45 am]

BILLING CODE 3720-58-P